OFFICE OF MANAGEMENT AND BUDGET

Designation of Databases to the Do Not Pay Working System

AGENCY: Office of Management and Budget.

ACTION: Notice of designation.

The Payment Integrity Information Act of 2019 (PIIA) authorizes the Office of Management and Budget (OMB) to designate databases for inclusion in the Department of the Treasury (Treasury) Do Not Pay Working System under the Do Not Pay Initiative. PIIA requires OMB to provide public notice and an opportunity for comment prior to designating databases. In fulfillment of this requirement, OMB published a Notice of Proposed Designation on Aug. 29, 2024 (89 FR 70208) for Treasury's Account Verification Services and Treasury's Death Notification Entries. OMB received no comments on these proposed designations during the 30-day comment period. Effective immediately, OMB designates Treasury's Account Verification Services and Treasury's Death Notification Entries to the Do Not Pay Working System.

FOR FURTHER INFORMATION CONTACT: Rebecca Rowe, Policy Analyst, Office of Federal Financial Management, (telephone: 202-395-3993 OMB email: PaymentIntegrity@omb.eop.gov).

Shalanda Young,
Director, Office of Management & Budget.

[FR Doc. 2024-25234 Filed 10-30-24; 8:45 am]

BILLING CODE 3110-01-P